DEPARTMENT OF DEFENSE

Department of the Navy

32 CFR Part 725

RIN 0703-AA76

Release of Official Information for Litigation Purposes and Testimony by Department of the Navy Personnel

AGENCY: Department of the Navy, DOD.

ACTION: Final rule.

SUMMARY: The Secretary of the Navy's sole delegate for service of process, the Navy General Counsel, is changing the address where the service of process documents shall be delivered. This action is being taken in order to streamline the service process and expedite legal response on behalf of the Department of the Navy.

DATES: Effective March 17, 2005.

FOR FURTHER INFORMATION CONTACT: LT Samuel Wartell, Administrative Assistant, Office of the Navy General Counsel, 1000 Navy Pentagon, Washington, DC 20350-1000, 703-614-4473.

SUPPLEMENTARY INFORMATION: Pursuant to the authority cited below, the Office of the General Counsel, Department of the Navy, amends 32 CFR part 725. DOD Directive 5530.1 stipulates that the General Counsel is the sole delegate of the Secretary of the Navy for service of process in the Department of the Navy. This amendment provides notice that the General Counsel wishes to update the address given for this procedure in order to expedite the legal response on behalf of the Department of the Navy. It has been determined that invitation of public comment on this amendment would be impractical and unnecessary, and is therefore not required under the public rule-making provisions of 32 CFR parts 336 and 701. However, interested persons are invited to comment in writing on this amendment. All written comments received will be considered in making subsequent amendments or revisions of 32 CFR part 725, or the instructions on which they are based. It has been determined that this final rule is not a major rule within the criteria specified in Executive Order 12866, as amended by Executive Order 13258, and does not have substantial impact on the public. This submission is a statement of policy and as such can be effective upon publication of the Federal Register.

Matters of Regulatory Procedure

Executive Order 12866, Regulatory Planning and Review

This rule does not meet the definition of “significant regulatory action” for purposes of Executive Order 12866, as amended by Executive Order 13258.

Regulatory Flexibility Act

This rule will not have a significant economic impact on a substantial number of small entities for purposes of the Regulatory Flexibility Act (5 U.S.C. chapter 6).

Paperwork Reduction Act

This rule does not impose collection of information requirements for purposes of the Paperwork Reduction Act (44 U.S.C. Chapter 35, 5 CFR part 1320).

List of Subjects in 32 CFR Part 725

Courts, Government employees.

For the reasons set forth in the preamble, the Department of the Navy revises 32 CFR 725.6 (d)(D)(iii) to read as follows:

PART 725—RELEASE OF OFFICIAL INFORMATION FOR LITIGATION PURPOSES AND TESTIMONY BY DEPARTMENT OF THE NAVY PERSONNEL

§ 725.6 Authority to determine and respond.

* * * * *

(d) * * *

(D) * * *

(iii) Documents. 10 U.S.C. 7861 provides that the Secretary of the Navy has custody and charge of all DON books, records, and property. Under DOD Directive 5530.1,⁶ the Secretary of the Navy's sole delegate for service of process is the General Counsel of the Navy. See CFR 257.5(c). All process for such documents shall be served upon the General Counsel at the Department of the Navy, Office of the General Counsel, Navy Litigation Office, 720 Kennon Street SE, Bldg 36 Room 233, Washington Navy Yard, DC 20374-5013, 202-685-7039, who will refer the matter to the proper delegate for action.

* * * * *

Dated: March 11, 2005.
I.C. Le Moyne Jr.,
Lieutenant, Judge Advocate General's Corps, U.S. Navy, Alternate Federal Register Liaison Officer.

[FR Doc. 05-5288 Filed 3-16-05; 8:45 am]

BILLING CODE 3810-FF-P